Title 3—

The President

Memorandum of June 26, 2007

Assignment of Functions Under Section 1035 of the John Warner National Defense Authorization Act for Fiscal Year 2007

Memorandum for the Secretary of State [and] the Secretary of Defense

By the authority vested in me as President by the Constitution and laws of the United States, including section 301 of title 3, United States Code, I hereby assign to the Secretary of Defense the functions of the President under section 1035 of the John Warner National Defense Authorization Act for Fiscal Year 2007 (Public Law 109-364). The Secretary of State, and the heads of other executive departments and agencies identified in the report required under section 1035, should concur with the report.

The Secretary of Defense is authorized and directed to publish this memorandum in the Federal Register.

THE WHITE HOUSE,

Washington, June 26, 2007.

[FR Doc. 07-3254

Filed 6-29-07; 11:29 am]

Billing code 5000-04-M